FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 008493-031.

Title: Trans-Pacific American Flag Berth Operators Agreement.

Parties: American President Lines, Ltd. and A.P. Moller-Maersk A/S.

Filing Party: Eric Jeffrey, Esq; Nixon Peabody; 799 9th Street NW., Suite 500; Washington, DC 20001.

Synopsis: The amendment adds Matson Navigation Company as a member of the Agreement.

Agreement No.: 012067-017.

Title: U.S. Supplemental Agreement to HLC Agreement.

Parties: BBC Chartering Carriers GmbH & Co. KG and BBC Chartering & Logistic GmbH & Co. KG, as a single member; Chipolbrok (Chinese-Polish Joint Stock Shipping Company); Hanssy Shipping Pte. Ltd.; Industrial Maritime Carriers, L.L.C.; MACS Maritime Carrier Shipping GmbH & Co.; and Rickmers-Linie GmbH & Cie. KG.

Filing Party: Wade S. Hooker, Esq.; 211 Central Park W; New York, NY 10024.

Synopsis: The amendment changes the number of members of the Executive Committee of the worldwide Heavy Lift Club (“HLC”) from thirty-five percent of the HLC members to four or five HLC members, and updates the membership of the HLC. There is no change in the parties to the U.S. Agreement.

Agreement No.: 012426-001.

Title: The OCEAN Alliance Agreement.

Parties: COSCO SHIPPING Lines Co., Ltd.; CMA CGM S.A.; Evergreen Marine Corporation (Taiwan) Ltd. acting on its own behalf and/or on behalf of other members of the Evergreen Line Joint Service Agreement (ELJSA); and Orient Overseas Container Line Limited and OOCL (Europe) Limited, acting as one party.

Filing Party: Robert K. Magovern, Esq.; Cozen O'Connor; 1200 Nineteenth St. NW., Washington DC 20036.

Synopsis: This Amendment revises Article 2 of the Agreement to reflect a recently implemented name change of one of the parties, COSCO Container Lines Co., Ltd., to COSCO SHIPPING Lines Co., Ltd.

Agreement No.: 012452.

Title: CMA CGM/HLAG U.S.-West Med Slot Sale Arrangement.

Parties: CMA CGM S.A. and Hapag-Lloyd AG.

Filing Party: Heather M. Spring, Esq.; CMA CGM (America) LLC; 5701 Lake Wright Drive; Norfolk, VA 23502.

Synopsis: The agreement authorizes CMA CGM to charter space to Hapag Lloyd on a single voyage from Spain and Italy to the U.S. Gulf Coast.

Agreement No.: 012453.

Title: MOL/NMCC/WLS/KL Space Charter Agreement.

Parties: Mitsui O.S.K. Lines, Ltd.; Nissan Motor Car Carrier Co., Ltd.; World Logistics Services (U.S.A.), Inc.; and Kawasaki Kisen Kaisha, Ltd.

Filing Party: Eric Jeffrey, Esq; Nixon Peabody; 799 9th Street NW., Suite 500; Washington, DC 20001.

Synopsis: The agreement authorizes the parties to charter space to one another on an as needed, as available, basis for the carriage of vehicles and other Ro-Ro cargo in the trades between the United States and all foreign countries.

By Order of the Federal Maritime Commission.
Dated: January 6, 2017.
Rachel E. Dickon,
Assistant Secretary.

[FR Doc. 2017-00471 Filed 1-11-17; 8:45 am]

BILLING CODE 6731-AA-P